CORPORATION FOR NATIONAL AND COMMUNITY SERVICE

Notice Inviting Preliminary Public Input on Transformation and Sustainability Plan

AGENCY: Corporation for National and Community Service

ACTION: Request for preliminary public input; Notification of listening sessions.

SUMMARY: In accordance with the National and Community Service Act of 1990, as amended, and the President's Management Agenda for Modernizing the Federal Government, the Corporation for National and Community Service (CNCS) is inviting informal public comment concerning its Transformation and Sustainability Plan. CNCS will host four in-person listening sessions and three conference calls for public input, and accept written comments. This input will be used to shape the implementation of the plan.

DATES: Written comments are due by Friday, August 24, 2018.

Listening sessions:

1. June 21, 2018, Chicago, IL

2. June 22, 2018, New Orleans, LA

3. July 9, 2018, conference call

4. July 26, 2018, Los Angeles, CA

5. August 2, 2018, Boston, MA

6. August 8, 2018, conference call

7. August 13, Tribal conference call

ADDRESSES: You may submit written comments by any of the following methods:

(1) Electronically via regulations.gov.

(2) Electronically via email to Transform@cns.gov.

(3) By mail sent to: Amy Borgstrom, Docket Manager, Corporation for National and Community Service, 250 E Street SW, Washington, DC 20525.

For public input meeting registration and conference call information see: https://www.nationalservice.gov/about-cncs/transformation-and-sustainability-plan.

FOR FURTHER INFORMATION CONTACT: Neill Minish, Special Initiatives Advisor, Corporation for National and Community Service, 250 E Street SW, Washington, DC 20525. Phone: 202-606-6664. Email: nminish@cns.gov.

SUPPLEMENTARY INFORMATION:

Description of Requested Input:

CNCS is inviting preliminary informal input from the public on its Transformation and Sustainability Plan. The plan, and further information about the meetings and calls, can be viewed at https://www.nationalservice.gov/about-cncs/transformation-and-sustainability-plan.

We will accept input in writing, as described in the ADDRESSES section above, at the four in-person listening sessions we will conduct this summer, and through three virtual listening sessions via conference call. CNCS will not respond individually to commenters, but will consider the input as we implement the Transformation and Sustainability Plan.

We are committed to hearing and considering input from all Americans. If you can't attend a face-to-face session, please attend a virtual session or provide your input via regulations.gov.

Reasonable Accommodations: The Corporation for National and Community Service provides reasonable accommodations to individuals with disabilities where appropriate. Anyone who needs an interpreter or other accommodation should notify Neill Minish at nminish@cns.gov or 202-606-6660.

Dated: June 13, 2018.
Thomas L. Bryant,
Acting General Counsel.

[FR Doc. 2018-13087 Filed 6-18-18; 8:45 am]

BILLING CODE 6050-28-P